FEDERAL ELECTION COMMISSION

Sunshine Act Notices

AGENCY: Federal Election Commission.

Date and Time: Thursday, April 28, 2005, at 10 a.m.

Place: 999 E Street, NW., Washington, DC (Ninth Floor).

Status: This meeting will be open to the public.

Items to be Discussed:

Correction and approval of minutes.

Notice of proposed rulemaking on state party committees' payments of wages and salaries.

Notice of proposed rulemaking on the definition of Federal election activity.

Routine administrative matters.

Person to Contact for Information: Mr. Robert Biersack, Press Officer, Telephone: (202) 694-1220.

Mary W. Dove,
Secretary of the Commission.

[FR Doc. 05-8151 Filed 4-19-05; 3:37 pm]

BILLING CODE 6715-01-M